DEPARTMENT OF HOMELAND SECURITY

Coast Guard

[USCG-2013-1065]

Towing Safety Advisory Committee; June 2014 Meeting

AGENCY: Coast Guard, DHS.

ACTION: Notice of teleconference meeting.

SUMMARY: The Towing Safety Advisory Committee (TSAC) will meet via teleconference to receive tasking related to the report of investigation into the Mobile Offshore Drilling Unit (MODU) KULLUK grounding incident and receive final reports or status reports from seven active TSAC Subcommittees. This meeting will be open to the public.

DATES: The teleconference will take place on Wednesday, June 4, 2014, from 1 p.m. to 3 p.m. EST. This meeting may close early if all business is finished. If you wish to make oral comments at the teleconference, notify Mr. William J. Abernathy before the teleconference, as specified in the FOR FURTHER INFORMATION CONTACT section, or the designated Coast Guard staff at the meeting. If you wish to submit written comments or make a presentation, submit your comments or request to make a presentation by May 28, 2014. Also, if you want to come to the teleconference host location in person, you must request building access by May 28, 2014.

ADDRESSES: The Committee will meet via teleconference. To participate by phone, please contact Mr. William J. Abernathy listed below in the FOR FURTHER INFORMATION CONTACT section to obtain teleconference information. Note the number of teleconference lines is limited and will be available on a first-come, first-served basis. To come to the host location in person and join those participating in this teleconference from U.S. Coast Guard Headquarters, 2703 Martin Luther King Jr. Ave. SE., Washington, DC 20593-7509, please contact Mr. William J. Abernathy listed in the FOR FURTHER INFORMATION CONTACT section to request directions and building access. You must request building access by May 28, 2014, and present a valid, government-issued photo identification to gain entrance to the Coast Guard Headquarters building.

For information on facilities or services for individuals with disabilities or to request special assistance at the teleconference, contact Mr. William J. Abernathy listed in the FOR FURTHER INFORMATION CONTACT section, as soon as possible.

If you want to make a presentation, send your request by May 28, 2014, to Mr. William J. Abernathy listed in the FOR FURTHER INFORMATION CONTACT section. To facilitate public participation we are inviting public comment on the issues to be considered by the Committee as listed in the “Agenda” section below. You may submit a written comment on or before May 28, 2014, or make an oral comment during the public comment portion of the teleconference.

To submit a comment in writing, use one of the following methods:

• Federal eRulemaking Portal: http://www.regulations.gov. Follow the instructions for submitting comments.

• Email: William.J.Abernathy@uscg.mil. Include the docket number (USCG-2013-1065) on the subject line of the message.

• Fax: (202) 372-8283. Include the docket number (USCG-2013-1065) on the subject line of the fax.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

• To avoid duplication, please use only one of these methods.

Instructions: All submissions received must include the words “Department of Homeland Security” and the docket number for this notice. All comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2013-1065 in the Search box, press Enter, and then click on the item you wish to view.

FOR FURTHER INFORMATION CONTACT: Lieutenant Commander William Nabach, Alternate Designated Federal Official (ADFO) of TSAC, Commandant (CG-OES-2), U.S. Coast Guard, 2703 Martin Luther King Jr. Ave. SE., Stop 7509, Washington, DC 20593-7509; telephone (202) 372-1386, fax (202) 372-8283 or Mr. William J. Abernathy, Alternate Designated Federal Official (ADFO) of TSAC, Commandant (CG-OES-2), U.S. Coast Guard, 2703 Martin Luther King Jr. Avenue SE. If you have questions on viewing or submitting material to the docket, call Cheryl Collins, Program Manager, Docket Operations, telephone 202-366-9826 or 1-800-647-5527.

SUPPLEMENTARY INFORMATION: Notice of this meeting is given under the Federal Advisory Committee Act (FACA), 5 U.S.C. App., Public Law 92-463, 86 Stat. 770. As stated in 33 U.S.C. 1231a, the Towing Safety Advisory Committee provides advice and recommendations to the Department of Homeland Security on matters relating to shallow-draft inland and coastal waterway navigation and towing safety.

Agenda of Meeting

The agenda for the June 4, 2014, teleconference includes:

(1) Assignment of new tasking to the Committee for recommendations on the U.S. Coast Guard's Report Of Investigation (ROI) into the MODU KULLUK grounding incident.

(2) Receive the draft final report from the Subcommittee on Recommendations for Designation of Narrow Channels.

(3) Status updates from the following Subcommittees:

(a) Recommendations Regarding Manning of Inspected Towing Vessels.

(b) Recommendations for Evaluating Placement of Structures Adjacent to or Within the Navigable Channel.

(c) Recommendations for the Maintenance, Repair and Utilization of Towing Equipment, Lines and Couplings.

(d) Recommendations for Mid-Stream Liquefied Natural Gas and Compressed Natural Gas Refueling of Towing Vessels.

(e) Recommendations for Improvement of Coast Guard Marine Casualty Reporting.

(f) Recommendations to Establish Criteria for Identification of Air Draft for Towing Vessels and Tows.

(4) TSAC member comments.

(5) Public comments.

There will be a comment period for TSAC and a comment period for the public after each final report, but before each recommendation is formulated. The Committee will review the information presented on each issue, deliberate on any recommendations presented in the Subcommittees' reports, and formulate recommendations for the Department's consideration. A copy of each draft report and the final agenda will be available at https://homeport.uscg.mil/tsac.

During the June 4, 2014, teleconference, a public comment period will be held from approximately 2:45 p.m. to 3 p.m. Speakers are requested to limit their comments to three minutes. Please note that this public comment period may start before 2:45 p.m. if all other agenda items have been covered and may end before 3 p.m. if all of those wishing to comment have done so. Please contact Mr. William J. Abernathy, listed in the FOR FURTHER INFORMATION CONTACT section to register as a speaker.

Minutes

Minutes from the meeting will be available for public review and copying within 30 days following the meeting at https://homeport.uscg.mil/tsac.

Notice of Future 2014 TSAC Meetings

To receive automatic email notices of future TSAC meetings in 2014, go to the online docket, USCG-2013-1065 (http://www.regulations.gov/#!docketDetail;D=USCG-2013-1065), and select the sign-up-for-email-alerts option. We plan to use the same docket number for all TSAC meeting notices in 2014, so when the next meeting notice is published you will receive an email alert from http://www.regulations.gov when the notice appears in this docket.

J.G. Lantz,
Director of Commercial Regulations and Standards.

[FR Doc. 2014-09290 Filed 4-23-14; 8:45 am]

BILLING CODE 9110-04-P